DEPARTMENT OF DEFENSE

Office of the Secretary

[Docket ID: DoD-2016-OS-0031]

Proposed Collection; Comment Request

AGENCY: Defense Finance and Accounting Service (DFAS), DoD.

ACTION: Notice.

SUMMARY: In compliance with the Paperwork Reduction Act of 1995, the DFAS announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 31, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Finance and Accounting Services, 1240 East 9th Street, Enterprise Solutions and Standards Code JJFJB, Cleveland, Ohio 44199, ATTN: Stuart Kran, or email: stuart.a.kran.civ@mail.mil, or call (216) 204-4377.

SUPPLEMENTARY INFORMATION: Title; Associated Form; and OMB Number: Application for Pay in Arrears; DD Form 827; OMB Control Number 0730-XXXX.

Needs and Uses: The information collected is provided by service members, former service members, or legal representatives of incapacitated members in claiming arrears of pay believed to be due the service member. The authority for this form is 5 U.S.C. Section 301 which states in part that the head of a military department may prescribe regulations for the government of his/her department and the custody, use and preservation of its records, papers and property. However, it does not authorize withholding information from the public or limiting the availability of records to the public.

Affected Public: Individuals or households.

Annual Burden Hours: 832.

Number of Respondents: 3328.

Responses per Respondent: 1.

Annual Responses: 3328.

Average Burden per Response: 15 Minutes.

Frequency: On occasion.

When the Disbursing Officer/Finance Officer is not authorized to make payment due to lapsed appropriations, more than the current and previous five years, the claim is forwarded to the appropriate DFAS site for settlements. Claims are to be submitted on a DD 827. All necessary documentation must be attached to the claim. If the member is on active duty or separated for less than one year, the claim will be sent to the site servicing that branch of service. Army and Air Force claims will be sent to DFAS-IN, Navy and Marine Corps claims will be sent to DFAS-CL. For members separated over one year, the claim will be sent to DFAS-IN, Debts and Claims Management Office.

Dated: March 25, 2016.
Aaron Siegel,
Alternate OSD
Federal Register Liaison Officer, Department of Defense.

[FR Doc. 2016-07162 Filed 3-29-16; 8:45 am]

BILLING CODE 5001-06-P